DEPARTMENT OF AGRICULTURE

Forest Service

County Line-Fourmile Project, McKean and Warren Counties, PA

Correction

In notice document 01-11866, beginning on page 24095, in the issue of Friday, May 11, 2001, make the following correction:

On page 24096, in the first column, under the heading DATES, beginning in the third line “June 4, 2001” should read “June 11, 2001”.

[FR Doc. C1-11866 Filed 5-17-01; 8:45 am]

BILLING CODE 1505-01-D

DEPARTMENT OF ENERGY

Federal Energy Regulatory Commission

[Docket No. PR01-12-000]

Arkansas Western Gas Company: Notice of Application for Rate Approval

Correction

In notice document 01-11780 beginning on page 23903 in the issue of Thursday, May 10, 2001, the docket number should read as set forth above.

[FR Doc. C1-11780 Filed 5-17-01; 8:45 am]

BILLING CODE 1505-01-D

DEPARTMENT OF ENERGY

Federal Energy Regulatory Commission

[Docket No. EL00-95-012]

Notice of Initiation of Proceeding and Refund Effective Date

Correction

In notice document 01-11053 appearing on page 22223 in the issue of Thursday, May 3, 2001, the docket number should read as set forth above.

[FR Doc. C1-11053 Filed 5-17-01; 8:45 am]

BILLING CODE 1505-01-D

DEPARTMENT OF ENERGY

Federal Energy Regulatory Commission

[Docket No. ER01-1571-001]

Florida Power and Light Company; Notice of Filing

Correction

In notice document 01-10330 beginning on page 20973 in the issue of Thursday, April 26, 2001, the docket number is corrected to read as set forth above.

[FR Doc. C1-10330 Filed 5-17-01; 8:45 am]

BILLING CODE 1505-01-D